NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: March 8, 2010, 8:30 a.m.-5:30 p.m.; March 9, 2010, 8:30 a.m.-2 p.m.

Place: National Science Foundation (NSF), 4201 Wilson Boulevard, Arlington, VA 22230.

To help facilitate your access into the building, please contact the individual listed below prior to the meeting so that a visitors badge may be prepared for you in advance.

Type of Meeting: Open.

Contact Person: Dr. Margaret E.M. Tolbert, Senior Advisor and CEOSE Executive Liaison, Office of Integrative Activities, National Science Foundation, 4201 Wilson Boulevard, Arlington, VA 22230.

Telephone Numbers: (703) 292-4216, 703-292-8040 mtolbert@nsf.gov.

Minutes: Minutes may be obtained from the Executive Liaison at the above address or the Web site at http://www.nsf.gov/od/oia/activities/ceose/index.jsp.

Purpose of Meeting: To study NSF programs and policies and provide advice and recommendations concerning broadening participation in science and engineering.

Agenda

Primary Focus of This Meeting—Orientation to the National Science Foundation.

Monday, March 8, 2010

Opening Statement by the CEOSE Chair.

Presentations and Discussions:

✓ Discussion of the CEOSE Congressional Mandate with the General Counsel of the National Science Foundation.

✓ A Conversation with the Director of the National Science Foundation.

✓ Planning and Implementing Future Mini-Symposia.

✓ National Science Foundation Performance and Budget in General.

✓ Social, Behavioral, and Economic Sciences.

✓ Broadening Participation—A National Perspective.

Tuesday, March 9, 2010

Opening Statement by the CEOSE Chair.

Presentations, Discussions, and Reports:

✓ The Mini-Symposium on Women of Color in STEM—A Report.

✓ An Overview of the National Science Foundation.

✓ CEOSE Recommendations, 1999-2008.

✓ Reports by CEOSE Liaisons to Advisory Committees of the National Science Foundation.

✓ Review of CEOSE Action Items.

✓ Completion of Unfinished Business.

Dated: February 2, 2010.
Susanne Bolton,
Committee Management Officer.

[FR Doc. 2010-2499 Filed 2-4-10; 8:45 am]

BILLING CODE 7555-01-P